DEPARTMENT OF TRANSPORTATION

Federal Aviation Administration

14 CFR Part 39

[Docket No. 2001-NM-56-AD]

RIN 2120-AA64

Airworthiness Directives; McDonnell Douglas Model MD-11 and -11F Airplanes

AGENCY: Federal Aviation Administration, DOT.

ACTION: Notice of proposed rulemaking (NPRM).

SUMMARY: This document proposes the supersedure of an existing airworthiness directive (AD), applicable to certain McDonnell Douglas Model MD-11 and -11F airplanes, that currently requires a one-time detailed inspection to detect discrepancies of all electrical wiring installations in various areas of the airplane; and corrective actions, if necessary. This action would require another identical inspection in additional fuselage stations, and corrective actions, if necessary. This proposal is prompted by a report from the airplane manufacturer that it failed to include 41 inches of fuselage in the previously required inspection. The actions specified by the proposed AD are intended to prevent electrical arcing and/or heat damaged wires due to improper wire installations during manufacture and/or maintenance of the airplane, and consequent fire and smoke in various areas of the airplane.

DATES: Comments must be received by October 15, 2002.

ADDRESSES: Submit comments in triplicate to the Federal Aviation Administration (FAA), Transport Airplane Directorate, ANM-114, Attention: Rules Docket No. 2001-NM-56-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-56-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington.

FOR FURTHER INFORMATION CONTACT: Technical Information: Brett Portwood, Aerospace Engineer, Systems and Equipment Branch, ANM-130L, FAA, Los Angeles Aircraft Certification Office, 3960 Paramount Boulevard, Lakewood, California 90712-4137; telephone (562) 627-5350; fax (562) 627-5210.

Other Information: Sandi Carli, Airworthiness Directive Technical Writer/Editor; telephone (425) 227-1120, fax (425) 227-1232. Questions or comments may also be sent via the Internet using the following address: sandi.carli@faa.gov. Questions or comments sent via the Internet as attached electronic files must be formatted in Microsoft Word 97 for Windows or ASCII text.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-56-AD.” The postcard will be date stamped and returned to the commenter.

Availability of NPRMs

Any person may obtain a copy of this NPRM by submitting a request to the FAA, Transport Airplane Directorate, ANM-114, Attention: Rules Docket No. 2001-NM-56-AD, 1601 Lind Avenue, SW., Renton, Washington 98055-4056.

Discussion

On November 22, 2000, the FAA issued AD 2000-24-15, amendment 39-12022 (65 FR 75620, December 4, 2000), applicable to certain McDonnell Douglas Model MD-11 airplanes, to require a one-time detailed inspection to detect discrepancies of all electrical wiring installations in various areas of the airplane, and corrective actions, if necessary. That action was prompted by incidents of damaged wire insulation and chafed wires in various areas. The requirements of that AD are intended to prevent electrical arcing and/or heat damaged wires due to improper wire installations during manufacture and/or maintenance of the airplane, and consequent fire and smoke in various areas of the airplane.

The incident that prompted AD 2000-24-15 is not considered to be related to an accident that occurred off the coast of Nova Scotia involving a McDonnell Douglas Model MD-11 airplane. The cause of that accident is still under investigation.

Other Related Rulemaking

The FAA, in conjunction with Boeing and operators of Model MD-11 and -11F airplanes, is continuing to review all aspects of the service history of those airplanes to identify potential unsafe conditions and to take appropriate corrective actions. This proposed airworthiness directive (AD) is one of a series of actions identified during that process. The process is continuing and the FAA may consider additional rulemaking actions as further results of the review become available.

Actions Since Issuance of Previous Rule

Since the issuance of AD 2000-24-15, the airplane manufacturer has informed the FAA that it failed to include 41 inches of fuselage in the inspection and corrective procedures of McDonnell Douglas Service Bulletin MD11-24-165, dated April 4, 2000, and Boeing Service Bulletin MD11-24-165, Revision 01, including Appendix, dated November 6, 2000 (which are referenced in AD 2000-24-15 as appropriate sources of service information). This additional area is subject to the identified unsafe condition of AD 2000-24-15.

Explanation of Relevant Service Information

The FAA has reviewed and approved Boeing Service Bulletin MD11-24-165, Revision 02, including Appendix, dated March 8, 2001. The procedures in Revision 02 of the service bulletin are essentially identical to those in the original version and Revision 01 of the service bulletin. The only relevant change is to the affected fuselage stations, which now include an additional 41 inches of fuselage to be inspected. Accomplishment of the actions specified in the service bulletin is intended to adequately address the identified unsafe condition.

Explanation of Requirements of Proposed Rule

Since an unsafe condition has been identified that is likely to exist or develop on other products of this same type design, the proposed AD would supersede AD 2000-24-15 to continue to require a one-time detailed inspection to detect discrepancies of all electrical wiring installations in various areas of the airplane; and corrective actions, if necessary. The proposed AD also would require another identical inspection in additional fuselage stations, and corrective actions, if necessary. These additional actions would be required to be accomplished in accordance with Boeing Service Bulletin MD11-24-165, Revision 02, including Appendix, dated March 8, 2001, described previously.

Explanation of Change to Applicability

The FAA finds that Model MD-11F airplanes are not specifically identified by model in the applicability of AD 2000-24-15; however, they are identified by manufacturer's fuselage numbers. Therefore, the FAA has revised the applicability of this proposed AD to include Model MD-11F airplanes in addition to Model MD-11 airplanes, and to identify model designations as published in the most recent type certificate data sheet for the affected models.

Explanation of Certain Previously Required Requirements

As discussed in the preamble of notice of proposed rulemaking (NPRM) for AD 2000-24-15, the Accomplishment Instructions of the service bulletins referenced in that AD do NOT provide instructions for accomplishing corrective actions for certain discrepancies that are detected. Therefore, the FAA finds that the following corrective actions specified in paragraphs (c) and (d) of AD 2000-24-15, which have been retained and redesignated as paragraphs (d) and (e) in this proposed AD, must be accomplished, if necessary, to address the identified unsafe condition of the proposed AD:

• If no gap between the wire bundle and blanket can be seen when pressure is applied to the blanket, before further flight, reposition wires or clamping so that a gap can been seen when pressure is applied to the blanket.

• If any screw terminal of the flag lug bus bar is loose, before further flight, retorque to 10 to 11 inch-pounds.

Operators should note that Boeing Service Bulletin MD11-24-165, Revision 02, including Appendix, dated March 8, 2001 (described previously), does contain these corrective actions.

Explanation of Change in Terminology

The FAA has changed all references to a “detailed visual inspection” in the existing AD to “detailed inspection” in this proposed AD.

Cost Impact

There are approximately 182 Model MD-11 and -11F airplanes of the affected design in the worldwide fleet. The FAA estimates that 60 airplanes of U.S. registry would be affected by this proposed AD.

Each of the six inspections required by paragraphs (a)(1) through (a)(6) of this proposed AD, which are currently required by AD 2000-24-15, approximately 10 work hours per airplane to accomplish, at an average labor rate of $60 per work hour. Based on these figures, the cost impact of these currently required actions on U.S. operators is estimated to be $216,000, or $3,600 per airplane.

The inspection required by paragraph (a)(7) of this proposed AD, which is currently required by AD 2000-24-15, takes approximately 5 work hours per airplane to accomplish, at an average labor rate of $60 per work hour. Based on these figures, the cost impact of this currently required action on U.S. operators is estimated to be $18,000, or $300 per airplane.

The inspection required by paragraph (a)(8) of this proposed AD, which is currently required by AD 2000-24-15, takes approximately 12 work hours per airplane to accomplish, at an average labor rate of $60 per work hour. Based on these figures, the cost impact of this currently required action on U.S. operators is estimated to be $43,200, or $720 per airplane.

The new inspection required by paragraph (b) of this proposed AD would take approximately 1 work hour per airplane to accomplish, at an average labor rate of $60 per work hour. Based on these figures, the cost impact of this proposed inspection of this AD on U.S. operators is estimated to be $3,600, or $60 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. However, the FAA has been advised that manufacturer warranty remedies are available for labor costs associated with accomplishing the actions required by this proposed AD. Therefore, the future economic cost impact of this rule on U.S. operators may be less than the cost impact figure indicated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12022 (65 FR 75620, December 4, 2000), and by adding a new airworthiness directive (AD), to read as follows:

McDonnell Douglas: Docket 2001-NM-56-AD. Supersedes AD 2000-24-15, Amendment 39-12022.

Applicability: Model MD-11 and -11F airplanes, manufacturer's fuselage numbers 0447 through 0449 inclusive, 0451 through 0464 inclusive, 0466 through 0489 inclusive, 0491 through 0517 inclusive, 0519 through 0552 inclusive, 0554 through 0556 inclusive, 0557, 0558 through 0633 inclusive, and 0635; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f)(1) of this AD. The request should include an assessment of the effect of the modification, alteration, or repair on the unsafe condition addressed by this AD; and, if the unsafe condition has not been eliminated, the request should include specific proposed actions to address it.

Compliance: Required as indicated, unless accomplished previously.

Note 2: The FAA recommends that the actions required by this AD be accomplished immediately after accomplishing the replacement of metallized polyethyleneteraphthalate (MPET) insulation blankets, as required by AD 2000-11-02, amendment 39-11750 (65 FR 34341, May 26, 2000).

To prevent electrical arcing and/or heat damaged wires due to improper wire installations during manufacture and/or maintenance of the airplane, and consequent fire and smoke in various areas of the airplane, accomplish the following:

Restatement of Certain Requirements of AD 2000-24-15

One-Time Detailed Inspection

(a) Within 5 years after January 8, 2001 (the effective date of AD 2000-24-15, amendment 39-12022), accomplish the actions specified in paragraphs (a)(1), (a)(2), (a)(3), (a)(4), (a)(5), (a)(6), (a)(7), and (a)(8) of this AD, as applicable.

(1) For all airplanes: Perform a one-time detailed inspection to detect discrepancies of all electrical wiring installations in the center and aft cargo compartments from stations Y=1521.000 to Y=2007.000, in accordance with paragraph 3.B., “Work Instructions,” of the Accomplishment Instructions of McDonnell Douglas Service Bulletin MD11-24-171, dated April 4, 2000; or Revision 01, dated November 6, 2000.

Note 3: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc. may be used. Surface cleaning and elaborate access procedures may be required.”

(2) For all airplanes: Perform a one-time detailed inspection to detect discrepancies of all electrical wiring installations in the forward cargo compartment from stations Y=595.000 to Y=6-73.500, in accordance with the paragraph 3.B., “Work Instructions,” of the Accomplishment Instructions of McDonnell Douglas Service Bulletin MD11-24-170, dated April 12, 2000; or Revision 01, dated November 6, 2000.

(3) For all airplanes: Perform a one-time detailed inspection to detect discrepancies of all electrical wiring installations in the forward passenger compartment from stations Y=5-11.000 to Y=2007.000, in accordance with the paragraph 3.B., “Work Instructions,” of the Accomplishment Instructions of McDonnell Douglas Service Bulletin MD11-24-167, dated April 4, 2000; or Boeing Service Bulletin MD11-24-167, Revision 01, including Appendix 1, dated November 6, 2000.

(4) For all airplanes: Perform a one-time detailed inspection to detect discrepancies of all electrical wiring installations in the forward passenger compartment from stations Y=756.000 to Y=1501.000, in accordance with the paragraph 3.B., “Work Instructions,” of the Accomplishment Instructions of McDonnell Douglas Service Bulletin MD11-24-165, dated April 4, 2000; or Boeing Service Bulletin MD11-24-165, Revision 01, including Appendix, dated November 6, 2000, or Revision 02, including Appendix, dated March 8, 2001.

(5) For all airplanes: Perform a one-time detailed inspection to detect discrepancies of all electrical wiring installations in the forward passenger compartment from stations Y=465.000 to Y=755.000, in accordance with the paragraph 3.B., “Work Instructions,” of the Accomplishment Instructions of McDonnell Douglas Service Bulletin MD11-24-163, dated April 4, 2000; or Boeing Service Bulletin MD11-24-163, Revision 01, including Appendix 1, dated November 6, 2000.

(6) For all airplanes: Perform a one-time detailed inspection to detect discrepancies of all electrical wiring installations in the flight compartment and forward drop ceilings areas from stations Y=275.000 to Y=464.000, in accordance with the paragraph 3.B., “Work Instructions,” of the Accomplishment Instructions of McDonnell Douglas Service Bulletin MD11-24-188, dated April 28, 2000; or Revision 01, dated November 6, 2000.

(7) For airplanes having manufacturer's fuselage numbers 0447 through 0449 inclusive, 0451 through 0464 inclusive, 0466 through 0489 inclusive, 0491 through 0517 inclusive, 0519 through 0552 inclusive, 0554 through 0556 inclusive, 0557, and 0558 through 0633 inclusive: Perform a one-time detailed inspection to detect discrepancies of all electrical wiring installations in the center accessory compartment from stations Y=6-50.000 to Y=1179.000, in accordance with the paragraph 3.B., “Work Instructions,” of the Accomplishment Instructions of McDonnell Douglas Service Bulletin MD11-24-161, dated April 10, 2000; or Revision 01, dated November 6, 2000.

(8) For airplanes having manufacturer's fuselage numbers 0447 through 0449 inclusive, 0451 through 0464 inclusive, 0466 through 0489 inclusive, 0491 through 0517 inclusive, 0519 through 0552 inclusive, 0554 through 0556 inclusive, 0557, and 0558 through 0633 inclusive: Perform a one-time detailed inspection to detect discrepancies of all electrical wiring installations in the main avionics compartment from stations Y=275.000 to Y=464.000, in accordance with the paragraph 3.B., “Work Instructions,” of the Accomplishment Instructions of McDonnell Douglas Service Bulletin MD11-24-162, dated April 10, 2000; or Revision 01, dated November 6, 2000.

New Actions Required by This AD

One-Time Detailed Inspection

(b) For Group 2 airplanes identified in Boeing Service Bulletin MD11-24-165, Revision 02, including Appendix, dated March 8, 2001: Within 5 years after the effective date of this AD, perform a one-time detailed inspection to detect discrepancies of all electrical wiring installations in the forward passenger compartment from stations Y=1501.000 to Y=5-10.000, in accordance with the paragraph 3.B., “Work Instructions,” “Group 2,” of the Accomplishment Instructions of Boeing Service Bulletin MD11-24-165, Revision 02, dated March 8, 2001.

Corrective Action

(c) If any discrepancy is detected during the inspection required by paragraphs (a)(1) through (a)(8) of this AD or paragraph (b) of this AD, before further flight, accomplish the applicable corrective action(s) in accordance with the Accomplishment Instructions of the following applicable service bulletins, except as provided in paragraphs (d) and (e) of this AD, as applicable:

(1) McDonnell Douglas Service Bulletin MD11-24-171, dated April 4, 2000; or Revision 01, dated November 6, 2000;

(2) McDonnell Douglas Service Bulletin MD11-24-170, dated April 12, 2000; or Revision 01, dated November 6, 2000;

(3) McDonnell Douglas Service Bulletin MD11-24-167, dated April 4, 2000;

(4) Boeing Service Bulletin MD11-24-167, dated April 4, 2000, Revision 01, including Appendix, dated November 6, 2000;

(5) McDonnell Douglas Service Bulletin MD11-24-165, dated April 4, 2000;

(6) Boeing Service Bulletin MD11-24-165, Revision 01, including Appendix, dated November 6, 2000;

(7) McDonnell Douglas Service Bulletin MD11-24-163, dated April 4, 2000;

(8) Boeing Service Bulletin MD11-24-163, Revision 01, including Appendix 1, dated November 6, 2000;

(9) McDonnell Douglas Service Bulletin MD11-24-188, dated April 28, 2000; or Revision 01, dated November 6, 2000;

(10) McDonnell Douglas Service Bulletin MD11-24-161, dated April 10, 2000; or Revision 01, dated November 6, 2000; or

(11) McDonnell Douglas Service Bulletin MD11-24-162, dated April 10, 2000; or Revision 01, dated November 6, 2000.

(12) Boeing Service Bulletin MD11-24-165, Revision 02, including Appendix, dated March 8, 2001.

Note 4: Where there are differences between the AD and the referenced service bulletins, the AD prevails.

(d) If no gap between the wire bundle and blanket can be seen where the wiring is routed over the structural frames when pressure is applied to the blanket, before further flight, reposition wires or clamps so that a gap can be seen when pressure is applied to the blanket.

(e) If any screw terminal of the flag lug bus bar is loose, before further flight, retorque to 10 to 11 inch-pounds.

Alternative Methods of Compliance

(f)(1) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 5: Information concerning the existence of approved alternative methods of compliance with this AD, if any, may be obtained from the Los Angeles ACO.

(2) Alternative methods of compliance, approved previously in accordance with AD 2000-24-15, amendment 39-12022, are approved as alternative methods of compliance with this AD.

Special Flight Permits

(g) Special flight permits may be issued in accordance with sections 21.197 and 21.199 of the Federal Aviation Regulations (14 CFR 21.197 and 21.199) to operate the airplane to a location where the requirements of this AD can be accomplished.

Issued in Renton, Washington, on August 20, 2002.
Vi L. Lipski,
Manager, Transport Airplane Directorate, Aircraft Certification Service.

[FR Doc. 02-22004 Filed 8-28-02; 8:45 am]

BILLING CODE 4910-13-P